DEPARTMENT OF TRANSPORTATION

Federal Aviation Administration

14 CFR Part 39

[Docket No. 2000-NM-224-AD; Amendment 39-12116; AD 2001-03-12]

RIN 2120-AA64

Airworthiness Directives; British Aerospace (Jetstream) Model 4101 Airplanes

AGENCY: Federal Aviation Administration, DOT.

ACTION: Final rule.

SUMMARY: This amendment supersedes an existing airworthiness directive (AD), applicable to all British Aerospace (Jetstream) Model 4101 airplanes, that currently requires repetitive inspections to detect loose or migrated levers of the elevator cable tension regulators, and replacement of the regulator assembly with a new assembly, if necessary. This amendment requires modification of the elevator cable tension regulator lever assembly, terminating the repetitive inspections. This amendment is prompted by issuance of mandatory continuing airworthiness information by a foreign civil airworthiness authority. The actions specified by this AD are intended to prevent the elevator cable tension regulator from becoming detached from the splined shaft of the assembly, which could result result in difficulty adjusting the elevators, leading to reduced controllability of the airplane.

DATES: Effective March 28, 2001.

The incorporation by reference of Jetstream Service Bulletin J41-27-059, dated May 31, 2000, as listed in the regulations, is approved by the Director of the Federal Register as of March 28, 2001.

The incorporation by reference of Jetstream Alert Service Bulletin J41-A-27-053, dated September 14, 1999, as listed in the regulations, was approved previously by the Director of the Federal Register as of February 1, 2000 (64 FR 72531, December 28, 1999).

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, ANM-116, FAA, 1601 Lind Avenue, SW., Renton, Washington 98055-4056; telephone (425) 227-2125; fax (425) 227-1149.

SUPPLEMENTARY INFORMATION: A proposal to amend part 39 of the Federal Aviation Regulations (14 CFR part 39) by superseding AD 99-26-18, amendment 39-11478 (64 FR 72531, December 28, 1999), which is applicable to all British Aerospace (Jetstream) Model 4101 airplanes, was published in the Federal Register on December 5, 2000 (65 FR 75879). The action proposed to continue to require repetitive inspections to detect loose or migrated levers of the elevator cable tension regulators, and replacement of the regulator assembly with a new assembly, if necessary. The action also proposed to require modification of the elevator cable tension regulator lever assembly, terminating the repetitive inspections.

Comments

Interested persons have been afforded an opportunity to participate in the making of this amendment. No comments were submitted in response to the proposal or the FAA's determination of the cost to the public.

Conclusion

The FAA has determined that air safety and the public interest require the adoption of the rule as proposed.

Cost Impact

There are approximately 57 airplanes of U.S. registry that will be affected by this AD. The repetitive inspection that is currently required by AD 99-26-18 takes approximately 2 work hours per airplane to accomplish, at an average labor rate of $60 per work hour. Based on these figures, the cost impact of the currently required actions on U.S. operators is estimated to be $120 per airplane, per inspection cycle.

The modification that is required in this AD will take approximately 6 work hours per airplane to accomplish at an average labor rate of $60 per work hour. There will be no charge for required parts. Based on these figures, the cost impact of the requirements of this AD on U.S. operators is estimated to be $20,520, or $360 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11478 (64 FR 72531, December 28, 1999), and by adding a new airworthiness directive (AD), amendment 39-12116, to read as follows:

2001-03-12 British Aerospace Regional Aircraft (Formerly Jetstream Aircraft Limited British Aerospace (Commercial Aircraft) Limited): Amendment 39-12116. Docket 2000-NM-224-AD. Supersedes AD 99-26-18, Amendment 39-11478.

Applicability: All Model Jetstream 4101 airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent the elevator cable tension regulators from becoming detached from the splined shaft of the assembly, which could result in difficulty adjusting the elevators, leading to reduced controllability of the airplane, accomplish the following:

Restatement of Certain Actions Required by AD 99-26-18

Inspection

(a) Within 7 weeks after February 1, 2000 (the effective date of AD 99-26-18, amendment 39-11478), perform a detailed visual inspection of the elevator cable tension regulator lever assembly to detect discrepancies (including looseness and migration along the splines of the elevator cable tension regulator assembly), in accordance with Jetstream Alert Service Bulletin J41-A-27-053, dated September 14, 1999. Repeat the inspection thereafter at intervals not to exceed 1,500 flight hours until accomplishment of paragraph (c) of this AD.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

New Actions Required by This AD

Modification

(b) If any discrepancy is detected during any inspection required by paragraph (a) of this AD: Prior to further flight, perform the requirements of paragraph (c) of this AD.

(c) Except as required by paragraph (b) of this AD: Within 12 months after the effective date of this AD, modify the elevator cable tension regulators in accordance with Jetstream Service Bulletin J41-27-059, dated May 31, 2000.

(d) As of the effective date of this AD, no person shall install any elevator cable tension regulator lever assembly, unless that assembly has been modified in accordance with the requirements of paragraph (c) of this AD.

Alternative Methods of Compliance

(e) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(f) Special flight permits may be issued in accordance with sections 21.197 and 21.199 of the Federal Aviation Regulations (14 CFR 21.197 and 21.199) to operate the airplane to a location where the requirements of this AD can be accomplished.

Incorporation by Reference

(g) The actions shall be done in accordance with Jetstream Alert Service Bulletin J41-A-27-053, dated September 14, 1999; and Jetstream Service Bulletin J41-27-059, dated May 31, 2000; as applicable.

(1) This incorporation by reference of Jetstream Service Bulletin J41-27-059, dated May 31, 2000, is approved by the Director of the Federal Register in accordance with 5 U.S.C. 552(a) and 1 CFR part 51.

(2) The incorporation by reference of Jetstream Alert Service Bulletin J41-A-27-053, dated September 14, 1999, was approved previously by the Director of the Federal Register as of February 1, 2000 (64 FR 72531, December 28, 1999).

(3) Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Note 4: The subject of this AD is addressed in British airworthiness directive 006-05-2000.

Effective Date

(h) This amendment becomes effective on March 28, 2001.

Issued in Renton, Washington, on February 8, 2001.
Vi L. Lipski,
Manager, Transport Airplane Directorate, Aircraft Certification Service.

[FR Doc. 01-3696 Filed 2-20-01; 8:45 am]

BILLING CODE 4910-13-U